DEPARTMENT OF THE INTERIOR

Geological Survey

[GX16BA02EEW0200]

Agency Information Collection Activities: Request for Comments

AGENCY: U.S. Geological Survey (USGS), Interior.

ACTION: Notice of extension of a currently approved information collection, (1028-0103).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public to take this opportunity to comment on this ICR. This collection is scheduled to expire on January 31, 2016.

DATES: To ensure that your comments on this ICR are considered, OMB must receive them on or before February 10, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0103 USA National Phenology Network—The Nature's Notebook Plant and Animal Observing Program'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0103: USA National Phenology Network—The Nature's Notebook Plant and Animal Observing Program' in all correspondence.

FOR FURTHER INFORMATION CONTACT: Jake Weltzin, U.S. Geological Survey, 325 BioSciences East, 1311 East 4th Street, Tucson, AZ 85721 (mail); (520) 626-3821 (phone); or jweltzin@usgs.gov (email). You may also find information about this ICR at www.reginfo.gov.

SUPPLEMENTARY INFORMATION:

I. Abstract

The USA National Phenology Network (USA-NPN) is a program sponsored by the USGS that uses standardized forms for tracking plant and animal activity as part of a project called Nature's Notebook. The Nature's Notebook forms are used to record phenology (e.g., timing of leafing or flowering of plants and reproduction or migration of animals) as part of a nationwide effort to understand and predict how plants and animals respond to environmental variation and changes in weather and climate. Contemporary data collected through Nature's Notebook are quality-checked, described and made publicly available. Data are used to inform decision-making in a variety of contexts, including agriculture, drought monitoring, and wildfire risk assessment. Phenological information is also critical for the management of wildlife, invasive species, and agricultural pests, and for understanding and managing risks to human health and welfare, including allergies, asthma, and vector-borne diseases. Participants may contribute phenology information to Nature's Notebook through a browser-based web application or via mobile applications for iPhone and Android operating systems, meeting GPEA requirements. The web application interface consists several components: User registration, a searchable list of 1,016 plant and animal species which can be observed; a “profile” for each species that contains information about the species including its description and the appropriate monitoring protocols; a series of interfaces for registering as an observer, registering a site, registering plants and animals at a site, generating datasheets to take to the field, and a data entry page that mimics the datasheets.

II. Data

OMB Control Number: 1028-0103.

Form Number: Various (12 forms).

Title: USA National Phenology Network—The Nature's Notebook Plant and Animal Observing Program.

Type of Request: Extension without change of a currently approved information collection.

Respondent Obligation: Voluntary.

Frequency of Collection: On occasion. During the Spring and Fall seasons when phenology is changing quickly, we recommend respondents make observations once or twice per week as conditions allow.

Description of Respondents: Members of the public, and state and local government workers.

Estimated Total Number of Annual Responses: We project that 6,378 responders will register with Nature's Notebook, and of those 638 will watch the training videos. The same 6,378 responders will contribute 2,407,120 observation records. In total, this will result in 2,414,136 responses.

Estimated Time per Response: When joining the program, responders spend 13 minutes each to register and read guidelines and 83 minutes to watch all training videos. After that responders may spend about 2 minutes per record to observe and submit phenophase status record.

Estimated Annual Burden Hours: 82,502.

Estimated Reporting and Recordkeeping “Non-Hour Cost” Burden: $11,274.

Public Disclosure Statement: The PRA (44 U.S.C. 3501, et seq.) provides that an agency may not conduct or sponsor and you are not required to respond to a collection of information unless it displays a currently valid OMB control number.

Comments: On August 7, 2015, we published a Federal Register notice (80 FR 47511) announcing that we would submit this ICR to OMB for approval and soliciting comments. The comment period closed on October 6, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Jake Weltzin,
Program Manager, Status & Trends Program and Executive Director, USA National Phenology Network.

[FR Doc. 2016-00266 Filed 1-8-16; 8:45 am]

BILLING CODE 4338-11-P